DEPARTMENT OF HEALTH AND HUMAN SERVICES

[Document Identifier: OS-4040-0004]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before September 8, 2025.

ADDRESSES: Submit your comments to sagal.musa@hhs.gov or by calling 202-578-5441.

FOR FURTHER INFORMATION CONTACT: When submitting comments or requesting information, please include the document identifier 4040-0004-60D and project title for reference, to Sagal Musa, email: sagal.musa@hhs.gov or call 202-578-5441, the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Application for Federal Assistance (SF-424).

Type of Collection: Extension.

OMB No.: 4040-0004.

Abstract: The Application for Federal Assistance (SF-424) form standardizes the process for organizations seeking federal financial assistance, allowing consistent collection of information on eligibility, funding requests, and project objectives. This form supports federal agencies in efficiently evaluating grant applications, ensuring compliance, and allocating resources effectively. This form is submitted to the Federal grant-making agencies for evaluation and review. This IC expires on November 25, 2025. Grants.gov is seeking a three-year clearance of these collections.

Annualized Burden Hour Table
Forms (if necessary) | Respondents (if necessary) | Number of respondents | Number of responses per respondents | Average burden per response | Total burden hours
Application for Federal Assistance (SF-424) | Grant Applicants | 20,803 | 1 | 1 | 20,803
Total |  | 20,803 | 1 | 1 | 20,803

Catherine Howard,
Paperwork Reduction Act Reports Clearance Officer, Department of Health and Human Services, Office of the Secretary.

[FR Doc. 2025-12795 Filed 7-9-25; 8:45 am]

BILLING CODE 4151-AE-P